DEPARTMENT OF HOUSING AND URBAN DEVELOPMENT

[Docket No. FR-4653-N-01]

Notice of Proposed Information Collection for Public Comment: Tribal College and Universities Program Application Kit

AGENCY: Office of the Assistant Secretary for Policy Development and Research, HUD.

ACTION: Notice.

SUMMARY: The proposed information collection requirement described below has been submitted to the Office of Management and Budget (OMB) for emergency review and approval, as required by the Paperwork Reduction Act. The Department is soliciting public comments on the subject proposal.

DATES: Comments are due: March 13, 2001.

ADDRESSES: Interested persons are invited to submit comments regarding this proposal. Comments must be received within seven (7) days from the date of this Notice. Comments should refer to the proposal by name and should be sent to: Reports Liaison Officer, Department of Housing and Urban Development, Office of Policy Development and Research, 451 7th Street, SW., Room 8226, Washington, DC 20410.

FOR FURTHER INFORMATION CONTACT: Jane Karadbil, Office of University Partnerships—telephone (202) 708-1537, extension 5918. This is not a toll-free number. Copies of available documents submitted to OMB may be obtained from Ms. Karadbil.

SUPPLEMENTARY INFORMATION: This Notice informs the public that the Department of Housing and Urban Development (HUD) has submitted to OMB, for emergency processing, an information collection package with respect to a proposed Notice of Funding Availability and Application Kit for the Tribal Colleges and Universities Program (TCUP). HUD seeks to implement this initiative as soon as possible.

The Tribal Colleges and Universities Program provides grants to tribal colleges and universities to help them build, expand, renovate, and equip their own facilities. Approximately 9 grants will be awarded with Fiscal Year 2000 funds.

Submission of the information required under this information collection is mandatory in order to compete for and receive the benefits of the program. All materials submitted are subject to the Freedom of Information Act and can be disclosed upon request. An agency may not conduct or sponsor, and a person is not required to respond to, a collection of information unless the collection displays a valid control number. The OMB control number, when assigned, will be announced by a separate notice in the Federal Register.

The Department has submitted the proposal for the collection of information, as described below, to OMB for review, as required by the Paperwork Reduction Act (44 U.S.C. Chapter 35):

(1) Title of the information collection proposal: Application Kit—Tribal Colleges and Universities Program.

(2) Summary of the collection of information: Each applicant for this program would be required to submit current information, as listed below as:

(A) SF-424, Application for Federal Assistance.

(B) HUD-424M, Federal Assistance Funding Matrix.

(C) Application Checklist.

(D) Transmittal Letter, signed by the Chief Executive Officer of the institution or his or her designee.

(E) Abstract/Executive Summary (one page limit) describing the goals and activities of the project.

(F) Narrative Statement Addressing the Factors for Award. (50 page limit, including the statement of work, tables, and maps, but not including any letters of commitment and budget forms)

(G) SF-424B, Assurances for Non-Construction Programs.

(H) HUD-50071, Certification of Payments to Influence Certain Federal Transactions;

(I) SF-LLL, Disclosure of Lobbying Activities (if applicable);

(J) HUD-2880, Applicant/Recipient Disclosure/Update Form;

(K) HUD-50070, Certification of Drug-Free Workplace;

(L) HUD-2992, Certification Regarding Debarment and Suspension.

(3) Description of the need for the information and its proposed use: To appropriately determine which applicants should be awarded Tribal Colleges and Universities Program grants, certain information is necessary about the applicant's project and qualifications.

(4) Description of the likely respondents, including the estimated number of likely respondents, and proposed frequency of response to the collection of information: Respondents will be tribal colleges and universities. Grants will also be expected to prepare and submit semi-annual progress reports and a final report.

The estimated number of respondents submitting applications is 32. The proposed frequency of the response to the collection of information is one-time. The application need only be submitted once. The estimated number of respondents to the monitoring requirements is 9. Each grantee will submit two progress reports annually.

(5) Estimate of the total reporting burden that will result from the collection of information:

Reporting Burden

Number of respondents: 32 for applicants; 9 for monitoring requirements.

Total burden hours: 80 hours per respondent for applications); 56 hours a year per respondent for monitoring requirements.

Total Estimated Burden Hours: 3,208.

Authority: Section 3507 of the Paperwork Reduction Act of 1995, 44 U.S.C. Chapter 35, as amended.

Dated: February 26, 2001.
Lawrence L. Thompson,
General Deputy Assistant Secretary for Policy Development and Research.

[FR Doc. 01-5310 Filed 3-5-01; 8:45 am]

BILLING CODE 4210-62-M